DEPARTMENT OF HEALTH AND HUMAN SERVICES

Centers for Disease Control and Prevention

[30Day-05-04]

Proposed Data Collection Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Data Collection, Management, Reporting, and Evaluation for the Minority AIDS Initiative (MAI)—New—National Center for HIV, STD and Tuberculosis Prevention (NCHSTP), Centers for Disease Control and Prevention (CDC). CDC is requesting OMB approval to collect data to assess the HIV prevention and capacity-building activities of community-based organizations (CBOs) and other not-for-profit organizations funded under the MAI. The essence of this initiative is to implement an approach to HIV Prevention for minority communities through three strategies: (1) Support of CBOs to deliver HIV prevention services; (2) community coalition development (CCD) projects to increase access to a linked network of HIV, STD, TB, and substance abuse services; and (3) capacity-building assistance (CBA) to sustain, improve, and expand HIV prevention services.

CDC requires MAI grantees to evaluate their programs. CDC has the responsibility to support these evaluation efforts by assisting grantees in the design and implementation of their program evaluation activities, including the provision of evaluation forms and conducting an overall evaluation of the MAI. The data collected during this evaluation will allow CDC to (1) address accountability needs, (2) provide necessary information to the MAI grantees for improving their programs, and (3) provide a context for understanding the effectiveness of programs targeting African Americans and other racial and ethnic minorities.

Data collection will include self-administered questionnaires, which will be submitted quarterly, document reviews, and interviews with directors of community-based organizations, collaborating organizations, other community organizations, and community members served by these organizations. The first wave of data collection is planned for the summer of 2003. Subsequent waves of data collection are planned for 2004. The annualized burden for this data collection is 255 hours.

Data collection forms | Number of respondents | Number of responses per respondent | Average burden per response (in hrs)
Community-Based Organization (CBO) Questionnaire and Capacity-Building Recipient Questionnaire | 136 | 1 | 60/60
CBO HIV Counseling, Testing and Referral Questionnaire:
Part I | 54 | 1 | 10/60
Part II | 54 | 4 | 10/60
Capacity-Building Assistance (CBA) Provider Regionally-Based Resource Networks Questionnaire | 1 | 1 | 5/60
CBA Provider Questionnaire
Part I | 16 | 1 | 10/60
Part II | 17 | 1 | 20/60
Part III | 17 | 4 | 15/60
Community Coalition Development Questionnaire
Part I | 11 | 1 | 60/60
Part II | 11 | 4 | 30/60
Strategic Alliance
Part I | 5 | 1 | 60/60
Part II | 5 | 4 | 30/30

Dated: November 17, 2003.
Laura Yerdon Martin,
Acting Director, Executive Secretariat, Centers for Disease Control and Prevention.

[FR Doc. 03-29217 Filed 11-21-03; 8:45 am]

BILLING CODE 4163-18-P